DEPARTMENT OF JUSTICE

Immigration and Naturalization Service

[INS No. 2135-01; AG Order No. 2427-2001]

RIN 1115-AE26

Extension of the Designation of Honduras Under the Temporary Protected Status Program

AGENCY: Immigration and Naturalization Service, Justice.

ACTION: Notice.

SUMMARY: The designation of Honduras under the Temporary Protected Status (TPS) program will expire on July 5, 2001. This notice extends the Attorney General's designation of Honduras under the TPS program for 12 months until July 5, 2002, and sets forth procedures necessary for nationals of Honduras (or aliens having no nationality who last habitually resided in Honduras) with TPS to register for the additional 12-month period. Eligible nationals of Honduras (or aliens having no nationality who last habitually resided in Honduras) may re-register for TPS and an extension of employment authorization. Re-registration is limited to persons who registered during the initial registration period, which ended on August 20, 1999, or who registered after that date under the late initial registration provisions. Persons who are eligible for late initial registration may register for TPS during this extension. Nationals of Honduras (or aliens having no nationality who last habitually resided in Honduras) who are eligible for late initial registration may register for TPS during this extension.

EFFECTIVE DATES: The extension of the TPS designation for Honduras is effective July 5, 2001, and will remain in effect until July 5, 2002. The 90-day re-registration period begins May 8, 2001, and will remain in effect until August 6, 2001.

FOR FURTHER INFORMATION CONTACT: Rebecca K. Peters, Residence and Status Services Branch, Adjudications, Immigration and Naturalization Service, Room 3214, 425 I Street, NW, Washington, DC 20536, telephone (202) 514-4754.

SUPPLEMENTARY INFORMATION:

What Authority Does the Attorney General Have to Extend the Designation of Honduras Under the TPS Program?

Section 244(b)(3)(A) of the Immigration and Nationality Act (Act) states that at least 60 days before the end of an extension or a designation, the Attorney General must review conditions in the foreign state for which the designation is in effect. 8 U.S.C. 1254a(b)(3)(A). If the Attorney General does not determine that the foreign state no longer meets the conditions for designation, the period of designation is automatically extended for 6 months pursuant to section 244(b)(3)(C) of the Act, although the Attorney General may exercise his discretion to extend the designation for 12 or 18 months. 8 U.S.C. 1254a(b)(3)(C). With respect to Honduras, such an extension makes TPS available only to persons who have been continuously physically present since January 5, 1999, and have continuously resided in the United States since December 30, 1998.

Why Did the Attorney General Decide to Extend the TPS Designation for Honduras?

Since the date of the last extension of Honduras' TPS designation, the Departments of Justice and State have continued to review conditions in Honduras. Prior to making a decision, the Attorney General had consultations with the Department of State to determine whether conditions warranting the TPS designation continued to exist. Despite indications of progress in recovery efforts, the Attorney General determined that sufficient damage from Hurricane Mitch persists and that Honduras remains temporarily unable to handle adequately the return of over 100,000 nationals. 8 U.S.C. 1254a(b)(1)(B)(ii). For example, a review of Honduras' current conditions revealed that 14,000 out of the approximate 50,000 victims of Hurricane Mitch remain in shelters. Further, out of 60,000 housing units needed after Hurricane Mitch, only about 18,000 have actually been constructed. Upon review of all available information, the Attorney General concluded that a 12-month extension of Honduras' TPS designation is warranted.

Why did the Attorney General Extend the TPS Designation for a Period of 12 Months?

The Attorney General determined that a 12-month extension would afford Honduras a sufficient amount of time to substantially complete its recovery efforts. At the expiration of the current extension, Honduras will have been designated for TPS for a period of 30 months. To date, Honduras has made progress in recovering from the effects of Hurricane Mitch. Balancing the need for additional time for recovery efforts with the temporal nature of the TPS benefit, the Attorney General determined that a 12-month extension would provide Honduras sufficient time to complete its recovery efforts to the point that it can handle adequately the return of its nationals.

If I Currently Have TPS, How Do I Re-Register for an Extension?

If you have already been granted TPS through the Honduras TPS Program, your TPS will expire on July 5, 2001. Persons previously granted TPS under the Honduras program may apply for an extension by filing (1) a Form I-821, Application for Temporary Protected Status, without the fee, during the re-registration period that begins May 8, 2001 and ends August 6, 2001, and (2) a Form I-765, Application for Employment Authorization, and by submitting two identification photographs (1½″ × 1½″). To determine whether or not you must submit the one hundred dollar ($100) filing fee with the Form I-765, see the chart below.

If | Then
You are applying for employment authorization through July 5, 2002 | You must complete and file: (1) Form I-765, Application for Employment Authorization, with the $100 fee.
Your already have employment authorization or do not require employee authorization | You must complete and file: (1) Form I-765, with no filing fee.
Your are applying for employment authorization and are requesting a fee waiver | You must complete and file: (1) Fee waiver request and affidavit (and any other information) in accordance with 8 CFR 244.20, and (2) Form I-765 with no fee.

Where Should I Submit the Application for an Extension of TPS?

Nationals of Honduras (or aliens who have no nationality and who last habitually resided in Honduras) seeking to re-register for the extension of TPS must submit an application and accompanying materials to the INS service center that has jurisdiction over the applicant's place of residence.

When May I File for an Extension of TPS

The 90-day re-registration period begins May 8, 2001, and will remain in effect until August 6, 2001.

May I Apply for an Extension of My Work Authorization If I Have been Granted Employment Authorization on the Basis of My Pending I-821, but as of July 5, 2001, My Original Form I-821 Is Still Pending?

Yes, you may apply for an extension of employment authorization. Follow the instructions for re­registration above.

How Does an Application for TPS Affect My Application for Asylum or Other Immigration Benefits

An application for TPS does not affect an application for asylum or any other immigration benefit. A person who is otherwise eligible for TPS and who has applied for, or plans to apply for, asylum, but who has not yet been granted asylum or withholding of removal, may also apply for TPS. Denial of an application for asylum or any other immigration benefit does not necessarily affect disposition of a separate TPS application, though grounds for denying one form of relief may serve as the basis for denying TPS, as well. For example, a person who has been convicted of a particularly serious crime is ineligible for both asylum and TPS. 8 U.S.C. 1158(b) (2); 8 U.S.C. 1254a(c) (2) (B).

Does This Extension Allow Nationals of Honduras (or Aliens Having No Nationality Who Last Habitually Resided in Honduras) Who Entered the United States after December 30, 1998, to File for TPS?

No. This is a notice of an extension of the TPS designation for Honduras, not a notice of re-designation for Honduras for TPS. An extension of TPS does not change the required dates of continuous residence and continuous physical presence in the United States and does not expand TPS availability to include nationals of Honduras (or aliens having no nationality who last habitually resided in Honduras) who arrived in the United States after the required dates for continuous physical presence, January 5, 1999, and continuous residence, December 30, 1998.

Is Late Initial Registration Possible?

Yes. In addition to timely re-registration, late initial registration is possible for some persons from Honduras under 8 CFR 244.2(f)(2). To apply for late initial registration and applicant must:

(1) be a national of Honduras (or an alien who has no nationality and who last habitually resided in Honduras);

(2) have been continuously physically present in the United States since January 5, 1999;

(3) have continuously resided in the United States since December 30, 1998; and,

(4) be admissible as an immigrant, except as otherwise provided under section 244(c) (2) (A) of the Act, and not ineligible under section 244 (c) (2) (B) of the Act.

Additionally, the applicant must be able to demonstrate that, during the registration period from January 5, 1999, through July 5, 2000, he or she:

(1) was a nonimmigrant or had been granted voluntary departure status or any relief from removal,

(2) had an application for change of status, adjustment of status, asylum, voluntary departure, or any relief from removal pending or subject to further review or appeal,

(3) was a parolee or had a pending request for reparole, or

(4) was the spouse or child of an alien currently eligible to be a TPS registrant. 8 CFR 244.2(f)(2).

An applicant for late initial registration must register no later than sixty (60) days from the expiration or termination of the conditions described above. 8 CFR 244.2(g).

Notice of Extension of Designation of Honduras Under the TPS Program

By the authority vested in me as Attorney General under sections 244(b)(1), (b)(3)(A), and (b)(3)(C) of the Act, I have consulted with the appropriate government agencies concerning whether the conditions under which Honduras was designated for TPS continue to exist. As a result, I determine that the conditions for designation of TPS for Honduras continue to be met, specifically that the damage from Hurricane Mitch persists and Honduras remains temporarily unable to handle adequately the return of its nationals. 8 U.S.C. 1254a(b)(3)(A).

Accordingly, I order as follows:

(1) The designation of Honduras under section 244(b) of the Act is extended for an additional 12-month period from July 5, 2001, to July 5, 2002. 8 U.S.C. 1254a(b)(3)(C).

(2) I estimate that there are approximately 105,000 nationals of Honduras (or aliens who have no nationality and who last habitually resided in Honduras) who have been granted TPS and who are eligible for re-registration.

(3) In order to be eligible for TPS during the period from July 5, 2001, to July 5, 2002, a national of Honduras (or an alien who has no nationality and who last habitually resided in Honduras) who has already received a grant of TPS under the Honduras TPS designation or who is eligible to file under the late filing provision of 8 CFR 244.2(f)(2) must register for TPS by filing a new Application for Temporary Protected Status, Form I-821, along with an Application for Employment Authorization, Form I-765, within the 90-day period beginning on May 8, 2001 and ending on August 6, 2001. Failure to register without good cause will result in the withdrawal of TPS. 8 CFR 244.17(c).

(4) At least 60 days before this extension terminates on July 5, 2002, the Attorney General will review the designation of Honduras under the TPS program and determine whether the conditions for designation continue to be met. 8 U.S.C. 1254a(b)(3)(A). Notice of that determination, including the basis for the determination, will be published in the Federal Register.

(5) Information concerning the Honduran TPS program will be available at local Service offices upon publication of this notice and on the INS website at http://www.ins.usdoj.gov.

Dated: May 1, 2001.
John Aschroft,
Attorney General.

[FR Doc. 01-11536 Filed 5-7-01; 8:45 am]

BILLING CODE 4410-10-M